ENVIRONMENTAL PROTECTION AGENCY

[FRL-7440-4]

Extension of Public Comment Period on the General National Pollutant Discharge Elimination System Permits for Log Transfer Facilities in Alaska: AK-G70-0000 and AK-G70-1000

AGENCY: Environmental Protection Agency (EPA).

ACTION: Notice of extension of public comment period on two general National Pollutant Discharge Elimination System (NPDES) permits for log transfer facilities in Alaska.

SUMMARY: The Director, Office of Water, EPA Region 10, is extending the public comment period on the proposed modifications of the two general National Pollutant Discharge Elimination System (NPDES) permits for Alaskan log transfer facilities (LTFs) and the project area zone of deposit to January 27, 2003.

DATES: Interested persons may submit written comments on the proposed modifications to general NPDES permits AK-G70-0000 and AK-G70-1000 and on the project area zone of deposit on or before January 27, 2003.

ADDRESSES: Comments must be sent to the attention of Alaskan LTF Public Comments, EPA Region 10 (OW-130), 1200 Sixth Avenue, Seattle, WA 98101. All comments should include the name of the commenter, a concise statement of the comment, and the relevant facts upon which the comment is based.

FOR FURTHER INFORMATION CONTACT: The NPDES Permits Unit, EPA Region 10 Office of Water, Seattle, Washington, at (206) 553-0775.

SUPPLEMENTARY INFORMATION: On October 22, 2002, the EPA published the public notice of its request for comment on proposed modifications to two general permits for Alaskan log transfer facilities and a project area zone of deposit (67 FR 64885). On November 13, 2002, the EPA provided supplemental information and extended the public comment period for 60 days (67 FR 68869). That comment period ends January 13, 2003. On January 8, 2003, Sealaska submitted a request to extend the public comment period to January 27, 2003. This notice grants that request.

Administrative Record: The two draft general NPDES permit nos. AK-G70-0000 and AK-G70-1000, the October 22, 2002, Federal Register notice, the November 13, 2002, Federal Register notice, and this Federal Register notice are available for inspection and copying at six locations: (a) EPA-Juneau, 709 West 9th Street, room 223A; (b) ADEC-Juneau, 410 Willoughby Avenue, suite 200; (c) EPA-Anchorage, 222 West 7th Avenue, room 19; (d) ADEC-Anchorage, 555 Cordova Street; (e) ADEC-Ketchikan, 540 Water Street; and (f) EPA-Seattle, 1200 Sixth Avenue, 10th floor library. These documents are also available on EPA Region 10's internet site at http://www.epa.gov/r10earth/. The administrative record for the proposed modifications reflected in the draft general NPDES permits AK-G70-0000 and AK-G70-1000 and the project area zone of deposit can be reviewed in the EPA's Seattle Office, 1200 Sixth Avenue, 13th Floor.

Dated: January 9, 2003.
Randall F. Smith,
Director, Office of Water, Region 10.

[FR Doc. 03-1147 Filed 1-16-03; 8:45 am]

BILLING CODE 6560-50-P